DEPARTMENT OF AGRICULTURE

Forest Service

San Bernardino National Forest, Mountaintop Ranger District, CA, Santa Ana Watershed Hazardous Fuels Reduction and Forest Health Project

AGENCY: Forest Service, USDA.

ACTION: Notice of intent to prepare an environmental impact statement.

SUMMARY: The Mountaintop Ranger District, San Bernardino National Forest proposes to reduce fire risk and improve forest health within approximately 19,850 acres around the Barton Flats area of the upper Santa Ana Watershed under the authority of the Healthy Forests Restoration Act (HFRA) of 2003. To meet the primary purposes of providing for firefighter safety and community protection, it is proposed to create shaded fuelbreaks along private property boundaries adjacent to communities, along roads, and ridge tops that are strategically important as defensible fire-fighting zones. Outside of these fuelbreaks, it is proposed to reduce the potential for stand-replacing wildfire by reducing tree densities and removing excess fuels, while at the same time maintaining essential forest structure required by wildlife. The proposed action includes the long-term maintenance of the treatments proposed to meet the desired conditions.

DATES: Comments concerning the scope of the analysis must be received by December 6, 2012. The draft environmental impact statement is expected July 2013 and the final environmental impact statement is expected September 2013.

ADDRESSES: Send written comments to San Bernardino National Forest, 602 S. Tippecanoe Ave., San Bernardino, CA 92408. Comments may also be sent via email to comments-pacificsouthwest-san-bernardino@fs.fed.us, on the project Web site at https://cara.ecosystem-management.org/Public/CommentInput?Project=24122, or via facsimile to (909) 383-5770.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Tom Hall, Environmental Coordinator at thall@fs.fed.us; (909) 382-2905; or 602 S. Tippecanoe Ave., San Bernardino, CA 92408.

Individuals who use telecommunication devices for the deaf (TDD) may call the Federal Information Relay Service (FIRS) at 1-800-877-8339 between 8 a.m. and 8 p.m., Eastern Time, Monday through Friday.

SUPPLEMENTARY INFORMATION: This project will be performed under the authority of, and must comply with, the Healthy Forests Restoration Act (HFRA) of 2003. This project qualifies under Title 1 of the HFRA because the project area is in Wildland-Urban Interface (WUI) as designated in the Mill Creek Canyon (2006), Angelus Oaks (2005), and Big Bear Valley (2006) Community Wildfire Protection Plans (CWPPs) and the San Bernardino National Forest Land Management Plan (2006); and the project reduces the risk of wildland fire to the quality of the municipal water supply for communities downstream in San Bernardino, Riverside, and Orange counties, California. The predecisional administrative review, “objection”, process that was authorized under the HFRA will be implemented per 36 Code of Federal Regulations (CFR) 218 for this project.

Purpose and Need for Action

The probability of stand-replacing wildfire is high in much of the project area. No large communities occur within the project area, but thousands of recreationists use the area during summer and a number of communities occur just outside the project area, including Angelus Oaks to the west, and Big Bear Lake, Big Bear City, and other smaller communities to the north. Of major concern are the high concentrations of recreationists during the summer months, specifically organizational camps and recreational residence cabins on both NFS and private lands in the watershed, coupled with the limited ability to evacuate them quickly from the watershed in case of wildland fire. There is a high risk of accidental fire being started by the thousands of recreationists that occupy the watershed during summer, especially on weekends. There is a need to reduce the rate of fire spread throughout the watershed in order to provide for firefighter safety in the event of a wildfire, protect the recreationists using the watershed, and protect the neighboring communities.

The watershed has experienced a range of fires in the past century; approximately 31 percent of the project area has burned. However, only about 1,700 acres have burned within the past 50 years. Some mechanical treatments, thinning, and prescribed burning have occurred in Barton Flats and in other areas within the watershed. Nevertheless, the lack of recent fuels reduction treatments and fires in much of the watershed, has resulted in forest conditions where the vegetation is denser, ladder fuels are present, and there are unnaturally high levels of woody material in some parts of the project area. The San Bernardino National Forest has experienced drought conditions in recent years, the forest conditions with unnaturally high levels of fuel loading are still evident. Extensive crown fires are now occurring in similar southern California forests because of accumulated surface fuels. There is a need to improve forest health within the watershed in order to improve stand composition and the overall watershed condition.

Many wildlife species occur within the project area, including Southwestern willow flycatcher and California spotted owl. California spotted owl forest habitat is characterized by high canopy cover, as well as greater within-stand vertical (e.g., tree regeneration layers, snags) and horizontal (e.g., downed woody material) heterogeneity. There is a need to protect wildlife habitat and improve forest health to help sustain wildlife habitat and complement ecological restoration of the watershed.

Proposed Action

Strategically, the proposed treatments would provide defensible zones for firefighting within WUI defense zones, and would break up fuel continuity in WUI threat zones. To meet the primary purposes of providing for firefighter safety and community protection, shaded fuelbreaks will be created or maintained along private property boundaries adjacent to communities and along roads and ridge tops that are strategically important as defensible fire-fighting zones. Shaded fuelbreaks provide firefighters a defensible space from which to carry out firefighting operations. Most shaded fuelbreaks in the project area will be about 600 feet wide. For the Sugarloaf fuelbreak and along private property boundaries, this width may be expanded to meet desired conditions. Most of the proposed fuelbreaks in the project area would be new fuelbreaks. However, the fuelbreaks along the Jenks Lake County Road, the Santa Ana River Road (Forest Road 1N45), and Highway 38 have already been established and this project would include the maintenance of those fuelbreaks so that they meet the desired conditions.

Treatment Level 1 is the most intensive treatment and would result in an open forest structure with no standing dead trees, down logs, or other fuels on the ground. Treatment Level 2 is a little less intensive and would occur as outer bands on both sides of most Treatment level 1 corridors, as well as within relatively narrow areas between Treatment Level 1 corridors. Forest structure would be opened, but not as extensively as in Treatment level 1. Treatment Level 3 includes treatments in areas outside of shaded fuelbreaks and habitat suitable for California spotted owls. The objective is to reduce the potential of stand-replacing fires. The focus of this objective is to break up the continuity of the canopy fuels that now exists and change fire behavior under the 90th percentile weather conditions, so that flame length and rates of spread are reduced. There are many areas with sensitive resources (e.g., heritage resources, rare plants, riparian areas, designated Critical Habitat, etc.) within the project area and they may fall within any treatment level. Design Features have been developed to protect those individual sites either through avoidance or through modification of the treatment at and around those areas. The project area also contains large amounts of habitat for the California spotted owl, including mapped nest stands, protected activity centers (PACs), home range core (HRC) areas, and suitable habitat. Treatment Level 4 is designed to protect habitat components and characteristics important to spotted owls while improving the fire behavior under some conditions.

When trees are thinned the residual slash (limbs, tops, etc) would be treated either by chipping, direct removal, or through hand or machine piling and burning. Wood slash piles would be burned, once the wood has dried, under controlled conditions that minimize smoke within the communities. Prescribed broadcast burns are proposed to reduce fuels in some areas and would serve to break up the continuity of the shrub and herbaceous fuels and down wood in these areas. In some of these areas, dead trees would be cut and piled or removed prior to burning. Prescribed broadcast burning may also be used after thinning has been conducted to reduce fine fuels. Broadcast burns would only occur when weather conditions provide for safe burning around adjacent communities.

The proposed action also includes reforestation/native plant restoration in treatment areas. Reforestation will be focused in disturbed areas such as landings but may also include fire scars and areas damaged by off-road vehicles, etc. The intent would be to enhance the restoration progress of those sites. Reforestation and native plant restoration units are not specifically identified in the Proposed Action maps but planting opportunities would be indentified during the implementation phase and could occur in any of the mapped treatment areas. Restoration would be done with native plant species from locally-collected seeds and would represent the historic species composition on the site.

A complete description of the proposed action and maps can be found at http://data.ecosystem-management.org/nepaweb/nepa_project_exp.php?project=24122 or can be requested from the project contact.

Possible Alternatives

A “No Action” alternative will be analyzed as a part of this project. Under this alternative no actions would be taken to reduce wildland fire behavior, protect communities and the municipal watershed, or improve firefighter safety and forest health at this time.

Responsible Official

The responsible Official will be the Mountaintop District Ranger, San Bernardino National Forest.

Nature of Decision To Be Made

The Responsible Official will decide whether or not to implement the action as proposed or an alternative way to achieve the desired outcomes.

Preliminary Issues

The Santa Ana Watershed Hazardous Fuels Reduction and Forest Health project was scoped for 30 days beginning on July 7, 2011 and a public fieldtrip was held on July 23, 2011. Based on the comments received on the project the issues were identified and will be analyzed for recreation, wildlife, fire behavior, hydrology and soils, and plants.

Significant issues included: the impacts to recreational residence tract cabins, impacts to California spotted owl habitat, the scale of treatments, and cumulative beneficial affects of treatments within the project.

Scoping Process

This notice of intent initiates the scoping process, which guides the development of the environmental impact statement. A public meeting will be held on Thursday, November 29, 2012 at 6-8 p.m. in the Big Bear Discovery Center located at 41374 North Shore Drive, Highway 38, Fawnskin, CA 92333.

It is important that reviewers provide their comments at such times and in such manner that they are useful to the agency's preparation of the environmental impact statement. Therefore, comments should be provided prior to the close of the comment period and should clearly articulate the reviewer's concerns and contentions.

Dated: October 26, 2012.
Scott Tangenberg,
Mountaintop District Ranger, San Bernardino National Forest.

[FR Doc. 2012-27030 Filed 11-5-12; 8:45 am]

BILLING CODE 3410-11-P